DEPARTMENT OF COMMERCE

Agency Information Collection Activities; Submission to the Office of Management and Budget (OMB) for Review and Approval; Comment Request; Identifying Actionable Opportunities To Advance Equity and Remove Barriers To Support Underserved Communities

AGENCY: Department of Commerce.

ACTION: Notice; request for comment.

SUMMARY: The Department of Commerce (DOC), as part of its commitment to support the President's Executive Order, Advancing Racial Equity and Support for Underserved Communities, is announcing an opportunity for public comment on a new proposed information collection, “Identifying Actionable Opportunities to Advance Equity and Remove Barriers to Support Underserved Communities”. In accordance with the Paperwork Reduction Act of 1995 (PRA), we invite the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 3, 2022.

ADDRESSES: Interested persons are invited to submit written comments to the Department of Commerce PRA Clearance Officer at PRAcomments@doc.gov. All comments received are part of the public record. Comments will generally be posted without change. All Personally Identifiable Information (for example, name and address) voluntarily submitted by the commenter may be publicly accessible. Do not submit Confidential Business Information or otherwise sensitive or protected information.

FOR FURTHER INFORMATION CONTACT: Requests for additional information should be directed to Attn: Sheleen Dumas, PRA Clearance Officer, Office of Policy and Governance, Commerce Headquarters, 1401 Constitution Ave. NW, Washington, DC 20230; (202) 482-3306; or via email: docpra@doc.gov.

SUPPLEMENTARY INFORMATION:

I. Abstract

In January 2021, President Biden issued Executive Order 13985, `Advancing Racial Equity and Support for Underserved Communities', which established policy instructing the Federal Government to pursue a comprehensive approach to advancing equity for all, including people of color and others who have been historically underserved, marginalized, and adversely affected by persistent poverty and inequality, and tasks agencies with developing proactive policies, regulations, and guidance that affirmatively promote equity and speak to the needs of underserved communities. This will require agencies to review existing policies, rules, regulatory actions, and guidance. It will also require that agencies identify drivers of systemic inequities that are not currently being addressed and develop potential policies to address those inequities.

This new information collection will enable the Department of Commerce to act in accordance with this Executive Order to improve both efficiency and mission delivery, and to remove systemic barriers to opportunities and benefits for underserved communities. To accomplish this mission effectively, Commerce needs ongoing feedback on its programs and services. This information collection item allows Commerce to solicit clients' opinions about the use of products, services, and events.

Commerce will collect, analyze, and interpret information gathered through this information collection to identify gaps in equity and make improvements in accessibility, navigation, use, and service delivery based on insights gathered through developing an understanding of the user experience in underserved communities. Commerce will develop a question bank for all Bureaus to use to solicit information from both federal and non-federal individuals and organizations to develop policies and programs that deliver resources and benefits equitably to all.

These data collection efforts may be either qualitative or quantitative in nature or may consist of mixed methods. Additionally, data may be collected via a variety of means, including but not limited to electronic or social media, direct or indirect observation (i.e., in person, video and audio collections), interviews, questionnaires, surveys, and focus groups. Steps will be taken to ensure anonymity of respondents in each activity covered by this request.

As a general matter, these information collections will not result in any new system of records containing privacy information and will not ask questions of a sensitive nature and matters that are commonly considered private. Personally identifiable information (PII) is collected only to the extent necessary and is not retained.

If this information is not collected, Commerce will be unable to systematically determine the actual and relative levels of performance for its programs and services to underserved communities and to provide clear, actionable insights for equitable intervention.

II. Method of Collection

The Department of Commerce will collect this information by electronic means when possible, as well as by mail, fax, telephone, technical discussions; and customer experience activities such as feedback surveys, focus groups, user testing, and in-person interviews. Department of Commerce may also utilize observational techniques to collect this information.

III. Data

OMB Control Number: 0690-NEW.

Form Number(s): New.

Type of Review: Regular submission.

Affected Public: Collections will be targeted to the solicitation of opinions from respondents who have experience with the Commerce programs, services, or events or may have experience with the programs, services, or events in the future. For the purposes of this request, “customers” are individuals, businesses, and organizations that interact with a Federal Government agency or program, either directly or via a federal contractor. This could include individuals or households; businesses or other for-profit organizations; not-for-profit institutions; State, local or tribal governments; Federal government; and Universities.

Estimated Number of Respondents: 150,000.

Estimated Time per Response: Varied, dependent upon the data collection method used. The possible response time to complete a questionnaire or survey may be 3 minutes or up to 2 hours to participate in an interview or focus group.

Estimated Total Annual Burden Hours: 32,875.

Estimated Total Annual Cost to Public: $0 (This is not the cost of respondents' time, but the indirect costs respondents may incur for such things as purchases of specialized software or hardware needed to report, or expenditures for accounting or records maintenance services required specifically by the collection.).

Respondent's Obligation: Voluntary.

Legal Authority: Executive Order (E.O.) 13985.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-23687 Filed 11-1-21; 8:45 am]

BILLING CODE 3510-17-P